DEPARTMENT OF COMMERCE

National Oceanic and Atmospheric Administration

RIN 0648-XA960

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council (Council) and its Surfclam, Ocean Quahog and Tilefish Committee, its Ecosystem and Ocean Planning Committee, and its Spiny Dogfish Committee will hold public meetings.

DATES: The meetings will be held Tuesday, February 14, 2012 through Thursday, February 16, 2012. See SUPPLEMENTARY INFORMATION for specific dates and times.

ADDRESSES: Hilton Virginia Beach Oceanfront, 3001 Atlantic Avenue, Virginia Beach, VA; telephone: (757) 213-3001.

Council Address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION: On Tuesday, February 14—The Surfclam, Ocean Quahog and Tilefish Committee will meet from 1 p.m. until 3 p.m. The Ecosystem and Ocean Planning Committee will meet from 3 p.m. until 5 p.m. On Wednesday, February 15—The Spiny Dogfish Committee will meet from 9 a.m. until 10 a.m. Action on the Omnibus Framework/Supplemental Environmental Assessment (EA) will occur from 10 a.m. until 12 p.m. A review of the Advisory Panel Workgroup Report will be held from 1 p.m. until 3 p.m. Action on the Squid, Mackerel, and Butterfish Framework will occur from 3 p.m. until 4 p.m. A Highly Migratory Species (HMS) presentation will be held from 4 p.m. until 5 p.m. There will be a Public Listening Session from 5 p.m. until 6 p.m. On Thursday February 16—The Council will hold its regular Business Session from 9 a.m. until 1 p.m. to approve the October and December minutes, receive Organizational Reports to include a SAW/SARC 53 Summary on Black Sea Bass, the New England Liaison Report, the Executive Director's Report, the Science Report, Committee Reports, and conduct any continuing and/or new business.

Agenda items by day for the Council's Committees and the Council itself are:

On Tuesday, February 14—The Surfclam, Ocean Quahog and Tilefish Committee will discuss and identify the next steps for Amendment 15. The Ecosystem and Ocean Planning Committee will receive a presentation by Dr. Steve Ross of UNC Wilmington on Bureau of Ocean Energy Management-funded work on deep-sea corals and consider and approve the mission statement.

On Wednesday, February 15—The Spiny Dogfish Committee will update and review the range of alternatives for Amendment 3. The Council will take action to revise risk policy measures through framework adjustment or other action regarding the Omnibus Framework or Supplemental EA. The Council will receive an Advisory Panel Workgroup Report to review and approve workgroup recommendations to modify the current process for Advisory panel membership and governance. The Council will take action to modify vessel hold certification requirements regarding the Squid, Mackerel and Butterfish Framework. The Council will hear a presentation on an Amendment that proposes catch shares in the Atlantic shark fishery. The Council will hold a Public Listening Session.

On Thursday, February 16—The Council will hold its regular Business Session to approve the October and December minutes, receive Organizational Reports to include a SAW/SARC 53 Summary on Black Sea Bass, the New England Liaison Report, the Executive Director's Report, Science Report, Committee Reports, and conduct any continuing and/or new business.

Special Accommodations

This meeting is physically accessible to people with disabilities. Requests for sign language interpretation or other auxiliary aid should be directed to M. Jan Saunders, (302) 526-5251, at least 5 days prior to the meeting date.

Dated: January 23, 2012.
Tracey L. Thompson,
Acting Director, Office of Sustainable Fisheries, National Marine Fisheries Service.

[FR Doc. 2012-1594 Filed 1-25-12; 8:45 am]

BILLING CODE 3510-22-P